DEPARTMENT OF COMMERCE

International Trade Administration

[A-570-836]

Glycine from the People's Republic of China: Initiation of Antidumping New Shipper Review

AGENCY: Import Administration, International Trade Administration, Department of Commerce.

SUMMARY: The Department of Commerce (the Department) has received a timely request from Tianjin Tiancheng Pharmaceutical Co., Ltd. (Tiancheng) to conduct a new shipper review of the antidumping duty order on glycine from the People's Republic of China (PRC). In accordance with section 751(a)(2)(B) of the Tariff Act of 1930, as amended, and 19 CFR 351.214(d) of the Department's regulations, we are initiating this new shipper review.

EFFECTIVE DATE: May 24, 2002.

FOR FURTHER INFORMATION CONTACT: Matthew Renkey, Office of AD/CVD Enforcement VII, Import Administration, International Trade Administration, U.S. Department of Commerce, 14th Street and Constitution Avenue, N.W., Washington, D.C. 20230; telephone: (202) 482-2312.

SUPPLEMENTARY INFORMATION:

The Applicable Statute and Regulations

Unless otherwise indicated, all citations to the statute are references to the Tariff Act of 1930, as amended (the Act). In addition, unless otherwise indicated, all citations to the Department's regulations are to the current regulations, codified at 19 CFR Part 351 (2002).

Background

On March 29, 2002, the Department received a timely request from Tiancheng, in accordance with section 751(a)(2)(B) of the Act and 19 CFR 351.214(c), for a new shipper review of this antidumping duty order on glycine from the People's Republic of China (“PRC”), which has a March anniversary date. On April 29, 2002, the Department returned the submission because it did not meet the filing requirements of section 351.304(c) of the Department's regulations. See the Memorandum to the File entitled “Initiation of New Shipper Review of Glycine from the People's Republic of China,” (May 17, 2002), which is on file in the Central Records Unit of the Department of Commerce. We requested that Tiancheng refile its request within two days in accordance with section 351.304(c) of the regulations. On May 1, 2002, Tiancheng properly filed its request for a new shipper review.

As required by 19 CFR 351.214(b)(2)(i), (ii), and (iii)(A), Tiancheng has certified that it is both an exporter and producer of glycine. It has also certified that it did not export glycine to the United States during the period of investigation (“POI”), and that it has never been affiliated with any exporter or producer which exported glycine to the United States during the POI. See “Glycine from the People's Republic of China; Request for New Shipper Administrative Review,” Exhibit 1, (March 29, 2002). Tiancheng has further certified that its export activities are not controlled by the central government of the PRC, pursuant to the requirements of 19 CFR 351.214(b)(2)(iii)(B). See Id. Pursuant to the Department's regulations at 19 CFR 351.214(b)(2)(iv)(A), Tiancheng submitted documentation establishing the date of its first and only shipment of the subject merchandise to the United States, the date of entry of that first shipment, the volume of that shipment, and the date of the first sale to an unaffiliated customer in the United States. See Id. at Exhibit 2.

Initiation of Review

Because Tiancheng has provided the required certifications and documentation under section 351.303(g) of the regulations, we are initiating a new shipper review of the antidumping duty order on glycine from the PRC in accordance with section 751(a)(2)(B)(ii) of the Act and 19 CFR 351.214(d).

In accordance with 19 CFR 351.214(g)(1)(i)(A) of the Department's regulations, the period of review (POR) for a new shipper review, filed in the the annual anniversary month, will be the one-year period immediately preceding the anniversary month. Therefore, the POR for this new shipper review is:

Antidumping duty proceeding | Period to be reviewed
Glycine from the PRC: |
Tianjin Tiancheng Pharmaceutical Tiancheng) Co., Ltd | 03/01/01-02/28/02

We will instruct the Customs Service to allow, at the option of the importer, the posting, until the completion of the review, of a bond or security in lieu of a cash deposit for each entry of the merchandise exported by Tiancheng. This action is in accordance with 19 CFR 351.214(e).

The interested parties that need access to proprietary information in this new shipper review should submit applications for disclosure under administrative protective order in accordance with 19 CFR 351.305 and 351.306.

This initiation and notice are in accordance with section 751(a) of the Act (19 U.S.C. 1675(a)) and 19 CFR 351.214(d).

Dated: May 17, 2002
Joseph A. Spetrini,
Deputy Assistant Secretaryfor Import Administration, Group III.

[FR Doc. 02-13149 Filed 5-23-02; 8:45 am]

BILLING CODE 3510-DS-S